FEDERAL COMMUNICATIONS COMMISSION

47 CFR Part 73

[MB Docket No. 19-310 and 17-105; Report No. 3164; FRS 17301]

Petition for Reconsideration of Action in Proceedings

AGENCY: Federal Communications Commission.

ACTION: Petition for Reconsideration.

SUMMARY: Petition for Reconsideration (Petition) has been filed in the Commission's proceeding by Rachel Stilwell and Samantha Gutierrez, on behalf of REC Networks, musicFIRST Coalition and Future of Music Coalition.

DATES: Oppositions to the Petition must be filed on or before January 5, 2021. Replies to an opposition must be filed on or before January 15, 2021.

ADDRESSES: Federal Communications Commission, 45 L Street NE, Washington, DC 20554.

FOR FURTHER INFORMATION CONTACT: Jamile Kadre, Industry Analysis Division, Media Bureau, (202) 418-2245.

SUPPLEMENTARY INFORMATION: This is a summary of the Commission's document, Report No. 3164, released December 8, 2020. The full text of the Petition can be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Amendment of Section 73.3556 of the Commission's Rules Regarding Duplication of Programming on Commonly Owned Radio Stations; Modernization of Media Initiative, published at 85 FR 67303, October 22, 2020, in MB Docket Nos. 19-310 and 17-105. This document is being published pursuant to 47 CFR 1.429(e). See also 47 CFR 1.4(b)(1) and 1.429(f), (g).

Number of Petitions Filed: 1.

Federal Communications Commission.
Marlene Dortch,
Secretary, Office of the Secretary.

[FR Doc. 2020-28024 Filed 12-18-20; 8:45 am]

BILLING CODE 6712-01-P